DEPARTMENT OF DEFENSE

Office of the Secretary

Notice To Publicize Consent Order, Notify Public of DoD Compliance Officer and Provide Point of Contact for Information and or Inquiries

AGENCY: Office of the Under Secretary of Defense for Acquisition and Sustainment (OUSD(A&S)), Department of Defense (DoD).

ACTION: Notice of Consent Order.

SUMMARY: The DoD Compliance Officer for the Federal Trade Commission (FTC) Decision and Order (hereinafter referred to as the “Consent Order”), in the Matter of Northrop Grumman Corporation (NGC) and Orbital ATK, Inc Docket No. C-4652, dated June 5, 2018, and as modified on December 3, 2018, is posting this notice to inform the Public about the Consent Order and to notify the Public of the DoD Compliance Officer point of contact for further information or inquiries.

FOR FURTHER INFORMATION CONTACT: For further information and inquiries, interested parties should contact the DoD Compliance Officer, Ms. Nicoletta S. Giordani, at 703-693-6613 or nicoletta.s.giordani.civ@mail.mil. To request a meeting with the DoD Compliance Officer or the Government Compliance Team, interested parties should submit a request to: osd.mc-alex.rsrcmgmt.list.ousd-as-northrop-orbital-monitoring-mb@mail.mil.

SUPPLEMENTARY INFORMATION: The FTC's Complaint alleged that NGC's 2018 acquisition of Orbital ATK would reduce competition in the market for missile systems purchased by the U.S. Government, resulting in less innovation and higher prices for taxpayers. The resulting Consent Order, as described below, preserves the procompetitive benefits of the acquisition while addressing the potential anticompetitive harms.

The Consent Order: The Consent Order requires that NGC make its solid rocket motors (SRMs) and related services available on a non-discriminatory basis to all competitors for missile contracts. Covered missiles include any air, sea, and/or land-based missile propelled by one or more SRMs, including tactical missiles, missile defense interceptors and targets, and strategic missiles. The Consent Order does not cover launch vehicles for satellites and other space systems. The non-discrimination prohibitions of the Consent Order are comprehensive and apply to potential discriminatory conduct affecting price, schedule, quality, data, personnel, investment, technology, innovation, design, or risk. NGC must also establish firewalls to keep it from transferring or using any proprietary information that it receives from competing missile prime contractors or SRMs suppliers in a manner that harms competition. The Consent Order is in effect until June 5, 2038.

The complete text of the Consent Order and supplementary information is located on the following FTC website: https://www.ftc.gov/legal-library/browse/cases-proceedings/181-0005-c-4652-northrop-grumman-orbital-atk-matter.

DoD Compliance Officer: The DoD Compliance Officer is the Principal Director for Global Investment & Economic Security within the Office of the Assistant Secretary of Defense for Industrial Base Policy.

Dated: December 26, 2024.
Aaron T. Siegel,
Alternate OSD Federal Register Liaison Officer, Department of Defense.

[FR Doc. 2024-31427 Filed 12-30-24; 8:45 am]

BILLING CODE 6001-FR-P